DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to the proposed Santa Monica Pier Bridge Replacement, BHLO-5107(033) on the Santa Monica Pier Bridge which extends west from the intersection of Ocean Avenue and Colorado Avenue to the Santa Monica Pier, in the City of Santa Monica, in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 16, 2024. If the Federal law that authorizes judicial review of a claim provides a time period of less than 150 days for filing such claim, then that shorter time period still applies.

FOR FURTHER INFORMATION CONTACT: For Caltrans: Michael Enwedo, Branch Chief, Environmental Planning Division, California Department of Transportation—District 7, 100 South Main Street, Los Angeles, California 8 a.m. to 5 p.m., 213-335-0060, Michael.Enwedo@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans have taken final agency actions subject to 23 U.S.C. 139(l)(1) by issuing licenses, permits, and approvals for the following highway project in the State of California: Proposed replacement of the existing seismically deficient Santa Monica Pier Bridge with an in-kind replacement to meet current seismic standards. The new multi-modal bridge will have the same alignment and profile as the existing bridge. The Federal Project Identification Number associated with the project is BHLO-5107(033). The actions by the Federal agencies, and the laws under which such actions were taken, are described in the Final Environmental Assessment (FEA) for the project, approved on June 30, 2023, in the Finding of No Significant Impact (FONSI) issued on June 30, 2023, and in other documents in the FHWA project records. The FEA, FONSI, and other project records are available by contacting Caltrans at the addresses provided above. The Caltrans FEA and FONSI can be viewed and downloaded from the project website at https://www.santamonica.gov/santa-monica-pier-bridge-replacement-project, or viewed at public libraries in the project area.

This notice applies to all Federal agency decisions as of the issuance date of this notice and all laws under which such actions were taken, including but not limited to:

1. Council on Environmental Quality regulations;

2. National Environmental Policy Act (NEPA);

3. Moving Ahead for Progress in the 21st Century Act (MAP-21);

4. Department of Transportation Act of 1966;

5. Federal Aid Highway Act of 1970;

6. Clean Air Act Amendments of 1990;

7. Noise Control Act of 1970;

8. 23 CFR part 772 FHWA Noise Standards, Policies and Procedures;

9. Department of Transportation Act of 1966, Section 4(f);

10. Clean Water Act of 1977 and 1987;

11. Endangered Species Act of 1973;

12. Migratory Bird Treaty Act;

13. National Historic Preservation Act of 1966, as amended;

14. Historic Sites Act of 1935; and,

15. Executive Order 13112, Invasive Species.

(Catalog of Federal Domestic Assistance Program Number 20.205, Highway Planning and Construction. The regulations implementing Executive Order 12372 regarding intergovernmental consultation on Federal programs and activities apply to this program.)

Authority: 23 U.S.C. 139(l)(1).

Antonio Johnson,
Director, Planning, Environment and Right of Way, Federal Highway Administration, California Division.

[FR Doc. 2023-17627 Filed 8-16-23; 8:45 am]

BILLING CODE 4910-RY-P